DEPARTMENT OF DEFENSE

Office of the Secretary

U.S. Nuclear Command and Control System Comprehensive Review Advisory Committee

AGENCY: Department of Defense.

ACTION: Notice.

SUMMARY: The Department of Defense published a notice on September 11, 2008 (73 FR 52835) announcing a closed meeting of the U.S. Nuclear Command and Control System Comprehensive Review Advisory Committee. This notice is being published to announce changes in the meeting time, place, and agenda.

DATES: October 7, 2008 (0800-1630) and October 8, 2008 (0800-1645)

ADDRESSES: Nuclear Command and Control System Support Staff, 5201 Leesburg Pike, Suite 500, Falls Church, Virginia 22041.

FOR FURTHER INFORMATION CONTACT: Mr. William L. Jones, (703) 681-8681, U.S. Nuclear Command and Control System Support Staff (NSS), Skyline 3, 5201 Leesburg Pike, Suite 500, Falls Church, Virginia 22041.

SUPPLEMENTARY INFORMATION:

Agenda

Oct 7 2008 NSS

Time | Topic | Presenter(s)
8:30 a.m. | Welcome & Administrative Remarks | CAPT Budney, USN.
8:45 a.m. | Current Stockpile Status (Size, Funding) | Greenaugh.
9:15 a.m. | ROSA | Kusnezov.
9:45 a.m. | Advanced Certification | Deeney.
10:15 a.m. | Break |
10:30 a.m. | Testing and Simulation | Kusnezov.
12:00 p.m. | Lunch |
1:00 p.m. | Nuclear Weapons Complex—Capabilities | Allen.
1:30 p.m. | Nuclear Weapons Complex—Transformation | Allen.
2:00 p.m. | Nuclear Expertise | TBD.
2:15 p.m. | Break |
2:30 p.m. | Nuclear Stockpile Management Surveillance/WARTS | Neeley.
3:00 p.m. | Modernization (RRW vs LEP) | Greenaugh.
3:30 p.m. | Throughput Initiatives | Greenaugh.
4:00 p.m. | Executive Session |
4:30 p.m. | Adjourn |

Oct 8 2008 NSS

Time | Topic | Presenter(s)
8:30 a.m. | Nuclear Explosive Safety, ENDS, SS-21, ESD | Greenaugh.
9:00 a.m. | Security | NA-70.
9:30 a.m. | Use Control, PAL, UCEC National Laboratory Perspective | Greenaugh.
10:00 a.m. | Lawrence Livermore National Laboratory | LLNL.
10:30 a.m. | Break |
10:45 a.m. | Los Alamos National Laboratory | LANL.
11:15 a.m. | Sandia National Laboratory | SNL.
11:45 a.m. | Lunch |
1:00 p.m. | Accident/Incident/Emergency Response | NA-40.
1:45 p.m. | NSPD-28 Implementation Status | NA-40.
1:00 p.m. | POG Process | SSP.
1:30 p.m. | POG Process | AF AF/NWC.
2:15 p.m. | Break |
2:30 p.m. | DoD Nuclear Weapon Surety Unauthorized Launch Analysis (ULA) Unauthorized Use Analysis (UUA) | SSP & AFSC.
3:30 p.m. | Schlesinger Task Force Report | TBD.
4:15 p.m. | Executive Session |
4:45 p.m. | Adjourn |

Dated: September 25, 2008.
Patricia L. Toppings,
OSD Federal Register Liaison Officer, Department of Defense.

[FR Doc. E8-23309 Filed 10-2-08; 8:45 am]

BILLING CODE 5001-06-P